DEPARTMENT OF ENERGY

Federal Energy Regulatory Commission

Combined Notice of Filings #1

Take notice that the Commission received the following electric corporate filings:

Docket Numbers: EC14-112-000.

Applicants: PPL Corporation, RJS Power Holdings LLC.

Description: Application for Approval Pursuant to Section 203 of the Federal Power Act of PPL Corporation and RJS Power Holdings LLC.

Filed Date: 7/15/14.

Accession Number: 20140715-5153.

Comments Due: 5 p.m. ET 9/15/14.

Take notice that the Commission received the following exempt wholesale generator filings:

Docket Numbers: EG14-77-000.

Applicants: Palo Duro Wind Energy, LLC.

Description: Notice of Self-Certification of Exempt Wholesale Generator Status of Palo Duro Wind Energy, LLC.

Filed Date: 7/16/14.

Accession Number: 20140716-5118.

Comments Due: 5 p.m. ET 8/6/14.

Take notice that the Commission received the following electric rate filings:

Docket Numbers: ER11-3731-007.

Applicants: LWP Lessee, LLC.

Description: Supplement to June 9, 2014 Notice of Non-Material Change in Status of LWP Lessee, LLC.

Filed Date: 7/7/14.

Accession Number: 20140707-5092.

Comments Due: 5 p.m. ET 7/28/14.

Docket Numbers: ER13-187-009.

Applicants: Midcontinent Independent System Operator, Inc.

Description: 2014-07-14_Regional Order 1000 Compliance Filing to be effective 6/1/2013.

Filed Date: 7/14/14.

Accession Number: 20140714-5236.

Comments Due: 5 p.m. ET 8/4/14.

Docket Numbers: ER13-1266-003; ER13-1267-002; ER13-1268-002; ER13-1269-002; ER13-1270-002; ER13-1271-002; ER13-1272-002; ER13-1273-002; ER13-1441-002; ER13-1442-002; ER10-2474-006; ER10-2475-006; ER10-3246-003; ER10-2605-006; ER12-1626-003; ER13-520-002; ER13-521-002.

Applicants: Nevada Power Company, Sierra Pacific Power Company, PacifiCorp, Agua Caliente Solar, LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Yuma Cogeneration Associates.

Description: Supplement to January 2, 2014 Notification of change of the MidAmerican MBR Sellers under ER10-2475, et. al.

Filed Date: 7/16/14.

Accession Number: 20140716-5129.

Comments Due: 5 p.m. ET 8/6/14.

Docket Numbers: ER14-1736-001.

Applicants: Midcontinent Independent System Operator, Inc.

Description: 2014-07-16_Cost Recovery Mechanism Compliance Filing to be effective 1/29/2014.

Filed Date: 7/16/14.

Accession Number: 20140716-5090.

Comments Due: 5 p.m. ET 8/6/14.

Docket Numbers: ER14-2283-001.

Applicants: Alabama Power Company.

Description: SMEPA NITSA Amendment to 6/27 Amendment Filing to be effective 6/23/2014.

Filed Date: 7/16/14.

Accession Number: 20140716-5000.

Comments Due: 5 p.m. ET 8/6/14.

Docket Numbers: ER14-2436-000.

Applicants: Brookfield Smoky Mountain Hydropower LLC.

Description: BSMH MBR Filing to be effective 7/16/2014.

Filed Date: 7/15/14.

Accession Number: 20140715-5135.

Comments Due: 5 p.m. ET 8/5/14.

Docket Numbers: ER14-2437-000.

Applicants: Brookfield White Pine Hydro LLC.

Description: Brookfield White Pine Hydro LLC to be effective 7/16/2014.

Filed Date: 7/15/14.

Accession Number: 20140715-5139.

Comments Due: 5 p.m. ET 8/5/14.

Docket Numbers: ER14-2438-000.

Applicants: ITC Midwest LLC.

Description: Filing of Dark Fiber Agreement to be effective 9/13/2014.

Filed Date: 7/15/14.

Accession Number: 20140715-5144.

Comments Due: 5 p.m. ET 8/5/14.

Docket Numbers: ER14-2439-000.

Applicants: Midcontinent Independent System Operator, Inc.

Description: 2014-07-16_SA 2677 GRE-Pleasant Valley Wind GIA (J278) to be effective 7/17/2014.

Filed Date: 7/16/14.

Accession Number: 20140716-5121.

Comments Due: 5 p.m. ET 8/6/14.

Docket Numbers: ER14-2440-000.

Applicants: ISO New England Inc.

Description: Rev to Allow a Non-Comm. Cap. Res. to Seek a One-Year Deferral to be effective 7/17/2014.

Filed Date: 7/16/14.

Accession Number: 20140716-5124.

Comments Due: 5 p.m. ET 8/6/14.

Docket Numbers: ER14-2441-000.

Applicants: Puget Sound Energy, Inc.

Description: Formula Rate Compliance Filing Correction re Viewer to be effective 1/31/2013.

Filed Date: 7/16/14

Accession Number: 20140716-5126

Comments Due: 5 p.m. ET 8/6/14

Docket Numbers: ER14-2442-000

Applicants: Florida Power & Light Company

Description: FPL Revisions to FKEC Rate Schedule No. 322 to be effective 1/1/2013.

Filed Date: 7/16/14

Accession Number: 20140716-5127

Comments Due: 5 p.m. ET 8/6/14

Docket Numbers: ER14-2443-000

Applicants: Carr Street Generating Station, L.P.

Description: Carr Street Generating Station, L.P. MBR Filing to be effective 7/16/2014.

Filed Date: 7/16/14

Accession Number: 20140716-5148

Comments Due: 5 p.m. ET 8/6/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2014.
Nathaniel J. Davis, Sr.,
Deputy Secretary.

[FR Doc. 2014-17299 Filed 7-22-14; 8:45 am]

BILLING CODE 6717-01-P